INTERNATIONAL TRADE COMMISSION

Sunshine Act Meeting

AGENCY HOLDING THE MEETING: United States International Trade Commission.

TIME AND DATE: January 21, 2000 at 11 a.m.

PLACE: Room 101, 500 E Street SW, Washington, DC 20436, Telephone: (202) 205-2000.

STATUS: Open to the public.

MATTERS TO BE CONSIDERED:

1. Agenda for future meeting: none.

2. Minutes.

3. Ratification List.

4. Inv. Nos. 731-TA-278-280 and 347-348 (Review)(Malleable Cast Iron Pipe Fittings from Brazil, Japan, Korea, Taiwan, and Thailand)—briefing and vote. (The Commission will transmit its determination to the Secretary of Commerce on February 3, 2000.)

5. Outstanding action jackets: none.

In accordance with Commission policy, subject matter listed above, not disposed of at the scheduled meeting, may be carried over to the agenda of the following meeting.

By order of the Commission.
Issued January 12, 2000.
Donna R. Koehnke,
Secretary.

[FR Doc. 00-1324 Filed 1-14-00; 1:13 pm]

BILLING CODE 7020-02-P